FEDERAL COMMUNICATIONS COMMISSION

47 CFR Part 73

[DA 05-2696; MB Docket No. 02-352; RM-10602, RM-10776, RM-10777]

Radio Broadcasting Services; Clyde and Glenville, NC; Tazewell, TN and Weaverville, NC

AGENCY: Federal Communications Commission.

ACTION: Final rule.

SUMMARY: The Audio Division, at the request of The Stair Company, substitutes Channel 290C2 for Channel 290A at Tazewell, Tennessee, reallots Channel 290C2 from Tazewell to Weaverville, North Carolina, and modifies Station WCTU(FM)'s license accordingly (RM-10777). At the request of Glenville Radio Broadcasters, we dismiss the petition for rule making proposing the allotment of Channel 289A at Glenville, North Carolina, as the community's first local aural transmission service (RM-10602). See 67 FR 71926, December 3, 2002. At the request of Georgia-Carolina Radiocasting Company, LLC, we also dismiss the counterproposal proposing the allotment of Channel 290A at Clyde, North Carolina, as the community's first local aural transmission service (RM-10776). Channel 290C2 can be reallotted to Weaverville in compliance with the Commission's minimum distance separation requirements with a restriction of 27.1 kilometers (16.8 miles) northwest to avoid a short-spacing to the licensed site of Station WAGI-FM, Channel 287C, Gaffney, South Carolina. The reference coordinates for Channel 290C2 at Weaverville are 35-48-31 North Latitude and 82-49-37 West Longitude.

DATES: Effective November 28, 2005.

FOR FURTHER INFORMATION CONTACT: Sharon P. McDonald, Media Bureau, (202) 418-2180.

SUPPLEMENTARY INFORMATION: This is a synopsis of the Commission's Report and Order, MB Docket No. 02-352, adopted October 12, 2005, and released October 14, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under North Carolina, is amended by adding Weaverville, Channel 290C2.

3. Section 73.202(b), the Table of FM Allotments under Tennessee, is amended by removing Tazewell, Channel 290A.

Federal Communications Commission.
John A. Karousos,
Assistant Chief, Audio Division, Media Bureau.

[FR Doc. 05-21546 Filed 11-1-05; 8:45 am]

BILLING CODE 6712-01-P